DEPARTMENT OF THE INTERIOR

Bureau of Land Management

[MT030-1020-04-PH]

North Dakota: Dakotas Advisory Council Meeting

AGENCY: Bureau of Land Management, North Dakota Field Office, Interior.

ACTION: Announcement of meeting for Dakotas Resource Advisory Council.

SUMMARY: The Dakotas Advisory Council will meet in Dickinson, ND to discuss Paleontological and coal resources and review the sage grouse program. The agenda includes a day trip to the Gascoyne mine area. The meeting will be open to the public.

DATES: The meeting dates are:

1. May 26, 2004, 1 p.m. to 5 p.m., Dickinson, ND.

2. May 27, 2004, 8 a.m. to 5 p.m., Rhame, ND.

3. May 28, 2004, 8 a.m. to noon, Dickinson, ND.

ADDRESSES: The meeting will be held at Badlands Best Western Inn, 71 Museum Drive, Dickinson, ND 58601.

FOR FURTHER INFORMATION CONTACT: Douglas Burger, Field Office Manager, North Dakota Field Office, 2933 3rd Ave. W, Dickinson, North Dakota. Telephone 701.227.7700.

Public Comment Procedures: The meeting is open to the public and a public comment period is set for 8 a.m. on May 28, 2004. The public may make oral statements before the Council or file written statements for the Council to consider. Depending on the number of persons wishing to make an oral statement, a per-person time limit may be established.

SUPPLEMENTARY INFORMATION: The 15-member Council advises the Secretary of the Interior, through the Bureau of Land Management, on a variety of planning and management issues associated with public land management in the Dakotas. Summary minutes of the meeting will be available for public inspection and copying. Participants will go on a field tour Thursday, May 27 to tour the Gascoyne Mine which is a contender for becoming a new mine/powerplant operation in ND, from there we will proceed to Muddy Buttes south of Rhame to see Paleontological resources and discuss the significance of that site.

Dated: April 6, 2004.
Michael A. Nash,
Assistant Field Manager, Minerals.

[FR Doc. 04-8327 Filed 4-12-04; 8:45 am]

BILLING CODE 4310-$$-P